DEPARTMENT OF ENERGY

Federal Energy Regulatory Commission

[Docket No. AD04-10-000]

Enhanced Reporting of Natural Gas Storage Inventory Information; Technical Conference and Agenda

September 17, 2004.

As announced on August 2, 2004, the Federal Energy Regulatory Commission (Commission) will hold a technical conference on September 28, 2004 at 9:30 a.m. (e.s.t.) in the Commission Meeting Room at the Commission's headquarters, 888 First Street, NE., Washington, DC.

The conference is intended to explore whether the Commission should institute a generic rulemaking to require interstate natural gas pipeline companies and other owners and operators of natural gas storage facilities to electronically post each day actual natural gas storage inventory levels on their systems for the preceding day. Specifically, the technical conference will look into the feasibility, usefulness and appropriateness of requiring posting on a standardized basis for the previous gas day: (1) Net aggregate actual injection or withdrawal data; (2) actual total available working gas; and (3) actual total storage inventory volume. The Commission's staff will conduct the conference and members of the Commission and guest Commissioners may attend.

Agenda for the Conference

William Hederman, Director, Office of Market Oversight & Investigations

Opening Remarks 9:30 to 9:35 a.m.

John Kroeger, OMOI, Division of Enforcement

Introduction to the Technical Conference 9:35 to 9:50 a.m.

Elizabeth Campbell, Director, Natural Gas Division, Energy Information

Administration 9:50 to 10:10 a.m.

Panel 1: Interstate Storage Operators and Customers: 10:10 to 11 a.m.

Process, Costs and Benefits

Discussion of the feasibility, usefulness and appropriateness of posting on a standardized basis for the previous gas day: (1) Net aggregate actual injection or withdrawal data; (2) actual total available working gas; and (3) actual total storage inventory volume. Speakers will discuss costs of daily reporting, how the accuracy of reporting can be assured, and how corrections or adjustments to reported activity would be made. Speakers will also discuss the value of daily reporting and the benefits that pipeline customers and gas traders might receive from enhanced and timelier reporting.

• Anne Bomar, Managing Director of Rates, Dominion Transmission Inc.

• Jeff Keck, Manager of Operations Control, ANR.

• Arthur Corbin, President & General Manager, Municipal Gas Authority of Georgia (on behalf of American Public Gas Association).

• Gary Chapman, Senior Commercial Representative, Dow Chemical Co. (on behalf of Industrial Energy Consumers of America).

Question and Answers 11 to 11:30 a.m.

Lunch 11:30 a.m. to 12:30 p.m.

Panel 2: Intrastate and Local Distribution Company Storage

Operators: Process, Costs and Benefits 12:30 to 1:20 p.m.

Speakers are asked to address the same issues addressed by members of Panel 1. In addition, speakers are requested to address concerns triggered by the prospect of enhanced reporting that may be germane to the often differing obligations and business purposes of intrastate pipelines and local distribution companies relative to interstate pipeline companies. These concerns may include gas purchase activities and the legal authority of the Commission to impose enhanced reporting requirements on intrastate pipelines and local distribution companies that provide service pursuant to subpart C of part 284 of the Commission's regulations.

• Thomas Pearce, Chair of the Gas Staff Subcommittee of the National Association of Regulatory Utility Commissioners (NARUC).

• Rick Daniel, President, EnCana Gas Storage.

• Leonard Gilmore, Manager of Pipeline Regulation and Supply Planning, Northern Illinois Gas Company.

• David Taylor, Director of Gas Operations, Southern California Gas Company.

• Tim Oaks, Manager of Federal Regulatory Affairs & Contract Administration, UGI Utilities, Inc. (on behalf of the American Gas Association).

Questions and Answers 1:20 to 1:50 p.m.

Panel 3: Use of Storage Data 2 to 3 p.m.

Will daily posting contribute to market efficiency and reduce price volatility which occurs immediately following the EIA's release of its weekly storage report? Speakers will also discuss the value/benefits of enhanced reporting. Speakers will further discuss how storage inventory information is used and how that use might change with enhanced reporting.

• Robert Levin, Senior Vice President & Chief Economist, NYMEX Research Department.

• Rebecca Followill, Vice President, Howard Weil.

• Jim Avioli, Assets Manager—Natural Gas Storage, Unocal Midstream & Trade (on behalf of Natural Gas Supply Association).

• Martin Marz, Manager of Regulatory Affairs, BP Amoco.

• Arthur Gelber, President, Gelber and Associates.

Questions and Answers 3 to 3:30 p.m.

Concluding Remarks 3:35 to 3:45 p.m.

* * * * *

As noted in the August 2, 2004, announcement of this conference, there is no charge to attend and no requirement to register in advance. The conference will be transcribed. Those interested in acquiring the transcript should contact Ace Reporters at (202) 347-3700 or (800) 336-6646. Transcripts will be placed in the public record ten days after the Commission receives them.

Capitol Connection offers the opportunity for remote listening and viewing of the conference. It is available for a fee, live over the Internet, by phone or via satellite. Persons interested in receiving the broadcast or who need information on making arrangements should contact David Reininger or Julia Morelli at Capitol Connection at (703) 993-3100 as soon as possible or visit the Capitol Connection Web site at http://www.capitolconnection.org and click on “FERC.”

Magalie R. Salas,
Secretary.

[FR Doc. E4-2929 Filed 10-29-04; 8:45 am]

BILLING CODE 6717-01-P